DEPARTMENT OF LABOR

Veterans' Employment and Training Service

Agency Information Collection Activities; Proposed Collection; Request for Comments

AGENCY: Veterans' Employment and Training Service, Labor.

ACTION: Notice.

SUMMARY: The Department of Labor, as part of its continuing effort to reduce paperwork and respondent burden, conducts a pre-clearance consultation program to provide the general public and Federal agencies with an opportunity to comment on the proposed continued collections of information in accordance with the Paperwork Reduction Act of 1995 (PRA95) (44 U.S.C. 3506 C (2)(A)). This program helps to ensure that requested data can be provided in the desired format, reporting burden (time and financial resources) is minimized, collection instruments are clearly understood, and the impact of collection requirements on respondents can be properly assessed. Currently, VETS is soliciting comments concerning the proposed extension of the information collection request for the VETS 300, Cost Accounting Report, DVOP/LVER Programs and Manager's Report.

DATES: Comments are to be submitted by May 29, 2001.

ADDRESSES: Comments are to be mailed to the Veterans' Employment and Training Service, U.S. Department of Labor, Room S-1316, 200 Constitution Ave., NW., Washington, DC 20210, to the attention of Ronald Bachman, Acting Director, Office of Operations and Programs. Written comments limited to 10 pages or fewer may be transmitted by facsimile to (202) 693-4755 or e-mail to Bachman-Ronald@dol.gov. Receipt of submissions, whether by U.S. mail, e-mail or FAX transmittal, will not be acknowledged; however, the sender may request confirmation that a submission has been received, by telephoning VETS at (202) 693-4707 (VOICE) or (202) 693-4753 (TTY/TDD).

FOR FURTHER INFORMATION CONTACT: Ronald Bachman, Acting Director, Office of Operations and Programs, Veterans' Employment and Training Service, U.S. Department of Labor, Room S-1316, 200 Constitution Ave., NW., Washington, DC 20210, telephone: (202) 693-4707.

Copies of the referenced information collection request are available for inspection and copying through VETS and will be mailed to persons who request copies by telephoning Ronald Bachman at (202) 693-4707.

SUPPLEMENTARY INFORMATION:

I. Background

The VETS 300 Cost Accounting Report DVOP/LVER Report provides data on State public employment service program expenditures. This data is used at the Federal level by VETS for program budgeting and administration purposes, and to meet the mandated reporting requirements to the President and to Congress. Each State Employment Service Office is required to submit the VETS 300 Cost Accounting Report on a quarterly basis, and one additional, Final Fiscal Year Report.

Title 38 U.S.C. requires not less frequently than on a quarterly basis, an LVER assigned to a local employment service office (LESO) submit a report (Manager's Report) to the manager of the office, and to the Director Veterans' Employment and Training Service (DVET). This report addresses the LESO's compliance and performance with Federal law and regulations with respect to special services and priorities for eligible veterans and eligible persons. Section V(C)(3) of the Special Grant Provisions, requires that this quarterly report also include, at the least, an analysis of compliance with the applicable measures of Services or standards of performance pertinent to services to veterans, and the quantity and quality of services provided to eligible veterans and eligible persons by the LESO (or other designated service delivery point), to include Vocational Rehabilitation and Employment activity.

These reports were previously submitted to the Office of Management and Budget (OMB) for approval as part of a package by the Employment and Training Administration and assigned OMB No. 1205-0240. VETS is submitting a new request to extend the current collection forms and requesting a new OMB Number.

II. Desired Focus of Comments

Currently VETS is soliciting comments concerning the proposed extension of the information collection request for the VETS 300 Cost Accounting Report DVOP/LVER Programs and Manager's Report. The Department of Labor is particularly interested in comments which:

• Evaluate whether the proposed collection of information is necessary for the proper performance of the functions of the agency, including whether the information will have practical utility;

• Evaluate the accuracy of the agency's estimate of the burden of the proposed collection of information; including the validity of the methodology and assumptions used.

• Enhance the quality, utility, and clarity of the information to be collected; and

• Minimize the burden of the collection of information on those who are to respond, including through the use of appropriate automated, electronic, mechanical, or other technological collection techniques or other forms of information technology, e.g., permitting electronic submissions of responses.

III. Current Actions

This notice requests extended approval from OMB for the collection of information, submission, and other paperwork requirements of the VETS Cost Accounting Report; DVOP/LVER Programs.

Type of Review: Extension of a currently approved collection.

Agency: Veterans' Employment and Training Service.

Title: VETS 300 Cost Accounting Report DVOP/LVER.

OMB Number: New (formerly 1205-0240).

Affected Public: State, Local, and Tribal Governments.

Reports | Number of respondents | Number of responses | Frequency | Average time per response (hours) | Estimated burden hours
VETS-300 | 53 | 265 | Quarterly Annually | 1 | 265
Manager's Report | 1,600 | 8,000 | Quarterly Annually | .83 | 6,640
Total | 1,653 | 8,265 |  |  | 6,905

Total Annualized Capital/startup costs: $0.

Total Initial Annual Costs: $0.

Comments submitted in response to this notice will be summarized and included in the agency's request for OMB approval of the information collection request. Comments will become a matter of public record.

Dated: March 26, 2001.
Stanley A. Seidel,
First Assistant Secretary, VETS.

[FR Doc. 01-7910 Filed 3-29-01; 8:45 am]

BILLING CODE 4910-79-P